DEPARTMENT OF HOUSING AND URBAN DEVELOPMENT

[Docket No. FR-4739-N-48]

Notice of Proposed Information Collection: Comment Request Personal Financial and Credit Statement

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: January 27, 2003.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410 or Wayne_Eddins@hud.gov.

FOR FURTHER INFORMATION CONTACT: Michael McCullough, Director, Office of Multifamily Development, Department of Housing and Urban Development, 451 7th Street, SW., Washington, DC 20410, telephone (202) 708-1142 (this is not a toll free number) for copies of the proposed forms and other available information.

SUPPLEMENTARY INFORMATION: The Department is submitting the proposed information collection to OMB for review, as required by the Paperwork Reduction Act of 1995 (44 U.S.C. chapter 35, as amended).

This Notice is soliciting comments for members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Personal Financial and Credit Statement.

OMB Control Number, if applicable: 2502-0001.

Description of the need for the information and proposed use: Form HUD-92417, Personal Financial and Credit Statement, is used by HUD personnel and FHA approved lenders to determine if the sponsor, mortgagor, or the principals of the mortgagor have the financial capability to develop, build, and complete a multifamily project. Form HUD-92417 is a part of the credit investigation during the Site Appraisal and Marketing Analysis (SAMA)/feasibility and commitment stages of the mortgage insurance application. The financial capability, reputation, experience, and the ability of the project sponsor is analyzed to determine whether the sponsor will be able to develop a successful project, and have the financial resources to complete and maintain the property.

Agency form numbers, if applicable: HUD-92417.

Estimation of the total numbers of hours needed to prepare the information collection including number of respondents, frequency of response, and hours of response: The estimated total annual hours required to prepare the information collection is 64,000; the number of respondents is 8,000 generating 8,000 annual responses; the frequency of response is on occasion; and the estimated time needed to prepare the response is 8 hours. This form is submitted during the SAMA/feasibility or commitment stages of the mortgage insurance application.

Status of the proposed information collection: Extension of currently approved collection.

Authority: The Paperwork Reduction Act of 1995, 44 U.S.C., chapter 35, as amended.

Dated: November 20, 2002.
John C. Weicher,
Assistant Secretary of Housing-Federal Housing Commissioner.

[FR Doc. 02-29965 Filed 11-25-02; 8:45 am]

BILLING CODE 4210-27-M